DEPARTMENT OF AGRICULTURE

Agricultural Marketing Service

7 CFR Parts 33 and 35

[Doc. No. AMS-FV-14-0099; FV15-33/35-1 PR]

Regulations Issued Under Authority of the Export Apple Act and Export Grapes and Plums; Changes to Export Reporting Requirements

AGENCY: Agricultural Marketing Service, USDA.

ACTION: Proposed rule; reopening of comment period.

SUMMARY: Notice is hereby given that the Agricultural Marketing Service (AMS) is reopening the comment period on the proposed rule to change the reporting of export certificate information under regulations issued pursuant to the Export Apple Act and the Export Grape and Plum Act until March 24, 2017. The proposed rule would require shippers of apples and grapes exported from the United States to electronically enter an Export Form Certificate number or a USDA-defined exemption code into the Automated Export System (AES). This rule would also define “shipper,” shift the current file retention requirement from carriers to shippers, and require shippers to provide, upon request, copies of the certificates to AMS. The proposed rule would also remove obsolete regulations and make clarifying changes. It also announced AMS' intention to request revision to a currently approved information collection for exported apples and grapes.

DATES: Comments must be received by March 24, 2017.

ADDRESSES: Interested persons are invited to submit written comments concerning the proposal. Comments must be sent to the Docket Clerk, Marketing Order and Agreement Division, Specialty Crops Program, AMS, USDA, 1400 Independence Avenue SW., STOP 0237, Washington, DC 20250-0237; Fax: (202) 720-8938; or Internet: http://www.regulations.gov. All comments should reference the document number and the date and page number of this issue and the December 5, 2016, issue of the Federal Register and will be made available for public inspection in the Office of the Docket Clerk during regular business hours or can be viewed at: http://www.regulations.gov. All comments submitted in response to the proposed rule will be included in the record and will be made available to the public. Please be advised that the identity of the individuals or entities submitting the comments will be made public on the internet at the address provided above.

FOR FURTHER INFORMATION CONTACT: Shannon Ramirez, Compliance and Enforcement Specialist, or Vincent Fusaro, Compliance and Enforcement Branch Chief, Marketing Order and Agreement Division, Specialty Crops Program, AMS, USDA; Telephone: (202) 720-2491, Fax: (202) 720-8938, or Email: Shannon.Ramirez@ams.usda.gov or VincentJ.Fusaro@ams.usda.gov.

Small businesses may request information on complying with this regulation by contacting Richard Lower, Marketing Order and Agreement Division, Specialty Crops Program, AMS, USDA, 1400 Independence Avenue SW., STOP 0237, Washington, DC 20250-0237; Telephone: (202) 720-2491, Fax: (202) 720-8938, or Email: Richard.Lower@ams.usda.gov.

SUPPLEMENTARY INFORMATION: A proposed rule was published in the Federal Register on December 5, 2016 (81 FR 87486). The proposed rule would change the reporting of export certificate information under regulations issued pursuant to both the Export Apple Act and the Export Grape and Plum Act (7 CFR part 33, “Regulations Issued Under Authority of the Export Apple Act,” and 7 CFR part 35, “Export Grapes and Plums,” respectively). Shippers of apples and grapes exported from the United States subject to inspection would be required to enter the certificate number from inspection certificates (i.e., Export Form Certificates) into AES. For apples shipped to Canada in bulk containers, which are exempt from inspection requirements, shippers would be required to enter a special USDA-defined exemption code in lieu of an Export Form Certificate number. Shippers would also be required to maintain paper or electronic copies of the certificates and to provide copies to AMS upon request. The proposed rule would also define “shipper” and would remove the requirement that carriers of exported apples and grapes retain certificates on file (because the requirement to retain the certificates would shift to shippers of exported apples and grapes). It would also remove regulations that are no longer applicable to grape exports and add structure and language to clarify the regulations.

Plums are not currently regulated under the Export Grape and Plum Act; therefore, the proposed change would not impact shipments of plums exported from the United States. If plums exported from the United States are regulated in the future under the Export Grape and Plum Act, the reporting of export certificate information similar to what is being proposed for exported grapes and apples would be proposed for plums.

The initial comment period for the proposed rule closed on January 4, 2017. USDA received a comment from a member of the export apple industry requesting that the comment period be extended by 60 days to allow more time to comment on the proposed rule. This individual expressed concern that while the proposed rule provided for a 60-day comment period, additional time was needed beyond the January 4, 2017, deadline to allow interested persons to comment.

After considering the request, USDA is reopening the comment period until March 24, 2017. This will provide interested persons more time to review the proposed rule, perform a complete analysis, and submit written comments.

Authority: This notice is issued pursuant to the Export Apple Act (48 Stat. 124; 7 U.S.C. 581-590) and the Export Grape and Plum Act (74 Stat. 734; 75 Stat. 220; 7 U.S.C. 591-599).

Dated: January 17, 2017.
Elanor Starmer,
Administrator, Agricultural Marketing Service.

[FR Doc. 2017-01417 Filed 1-19-17; 8:45 am]

BILLING CODE 3410-02-P